INTERNATIONAL TRADE COMMISSION

[Investigation No. 731-TA-461 (Second Review)]

Gray Portland Cement and Cement Clinker From Japan

Determination

On the basis of the record ¹ developed in the subject five-year review, the United States International Trade Commission (Commission) determines, pursuant to section 751(c) of the Tariff Act of 1930 (19 U.S.C. 1675(c)) (the Act), that revocation of the antidumping duty order on gray portland cement and cement clinker from Japan would be likely to lead to continuation or recurrence of material injury to an industry in the United States within a reasonably foreseeable time.

¹ The record is defined in § 207.2(f) of the Commission's Rules of Practice and Procedure (19 CFR 207.2(f)).

Background

The Commission instituted this review on October 3, 2005 (70 FR 57617) and determined on January 6, 2006 that it would conduct an expedited review (71 FR 5069, January 31, 2006).

The Commission transmitted its determination in this review to the Secretary of Commerce on May 31, 2006. The views of the Commission are contained in USITC Publication 3856 (May 2006), entitled Gray Portland Cement and Cement Clinker from Japan: Investigation No. 731-TA-461 (Second Review).

Issued: May 26, 2006.
By order of the Commission.
Marilyn R. Abbott,
Secretary to the Commission.

[FR Doc. E6-8556 Filed 6-1-06; 8:45 am]

BILLING CODE 7020-02-P